Title 3—

The President

Memorandum of June 26, 2019

Policy for Military Service Academy and Reserve Officers' Training Corps Graduates Seeking to Participate in Professional Sports

Memorandum for the Secretary of Defense

By the authority vested in me as President by the Constitution and the laws of the United States of America, I hereby order as follows:

Section 1. Background. Under current Department of Defense (DOD) policy, new graduates of the Military Service Academies (Academies) and Reserve Officers' Training Corps (ROTC) programs cannot pursue careers in professional sports until after they have served 2 years of commissioned service in the Armed Forces. As I recently stated, these student-athletes should be able to defer their military service obligations until they have completed their professional sports careers. Such cadets and midshipmen have a short window of time to take advantage of their athletic talents during which playing professional sports is realistically possible. At the same time, these student-athletes should honor the commitment they made to serve in the Armed Forces in exchange for the extraordinary benefits afforded to them at taxpayer expense at the Academies or ROTC programs. A revised policy will benefit the student-athletes, the Academies and ROTC programs, and the Armed Forces.

Sec. 2. Revised Sports Policy. (a) The Secretary of Defense (Secretary) shall develop a policy that authorizes new graduates of the Academies and ROTC programs to pursue professional sports opportunities immediately following graduation, consistent with their military service obligation (Revised Sports Policy).

(b) The Secretary shall submit the Revised Sports Policy to the President, through the Assistant to the President for National Security Affairs, no later than 120 days from the date of this memorandum.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are authorized and directed to publish this memorandum in the Federal Register.

THE WHITE HOUSE,

Washington, June 26, 2019

[FR Doc. 2019-14194

Filed 6-28-19; 11:15 am]

Billing code 5001-06-P